INTERNATIONAL TRADE COMMISSION

[Investigation Nos. 731-TA-1014 and 1016 (Third Review)]

Polyvinyl Alcohol From China and Japan; Cancellation of Hearing for Third Full Five-Year Reviews

AGENCY: United States International Trade Commission.

ACTION: Notice.

DATES: January 27, 2021.

FOR FURTHER INFORMATION CONTACT: Alejandro Orozco (202-205-3177), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these reviews may be viewed on the Commission's electronic docket (EDIS) at https://edis.usitc.gov.

SUPPLEMENTARY INFORMATION: Effective September 17, 2020, the Commission established a schedule for the conduct of the subject full five-year reviews (85 FR 59545, September 22, 2020). Counsel for domestic producers filed its request to appear at the hearing on January 26, 2021. No other party filled a timely request to appear at the hearing. On January 27, 2021, counsel for the domestic producers filed a request that the Commission cancel the hearing. Counsel indicated a willingness to respond to any Commission questions in lieu of an actual hearing and, in the alternative, domestic producers would appear at the hearing if held. Consequently, the public hearing in connection with these reviews, scheduled to begin at 9:30 a.m. on February 2, 2021, via videoconference, is cancelled. The Commission determined that no earlier announcement of this cancellation was possible. Parties to these reviews should respond to any written questions posed by the Commission in their posthearing briefs, which are due to be filed on February 10, 2021.

For further information concerning the conduct of these reviews and rules of general application, consult the Commission's Rules of Practice and Procedure, part 201, subparts A and B (19 CFR part 201), and part 207, subparts A, D, E, and F (19 CFR part 207).

Authority: These reviews are being conducted under authority of title VII of the Tariff Act of 1930; this notice is published pursuant to section 207.62 of the Commission's rules.

By order of the Commission.
Issued: January 19, 2021.
Lisa Barton,
Secretary to the Commission.

[FR Doc. 2021-02221 Filed 2-2-21; 8:45 am]

BILLING CODE 7020-02-P